DEPARTMENT OF COMMERCE

Foreign-Trade Zones Board

[Docket 29-2006]

Foreign-Trade Zone 164—Muskogee, OK; Application for Expansion

An application has been submitted to the Foreign-Trade Zones (FTZ) Board (the Board) by the Muskogee City-County Port Authority, grantee of FTZ 164, requesting authority to expand its zone in the Muskogee area within and adjacent to the Tulsa Customs port of entry. The application was submitted pursuant to the provisions of the Foreign-Trade Zones Act, as amended (19 U.S.C. 81a-81u), and the regulations of the Board (15 CFR part 400). It was formally filed on July 12, 2006.

FTZ 164 was approved on November 17, 1989 (Board Order 450, 54 FR 49321, November 30, 1989). The general-purpose zone currently consists of one site (14.6 acres) within the Port of Muskogee's public terminal area located at Port & Industrial Park Service Road and the Port Access Road.

The applicant is now requesting authority to expand its existing site and to include two new sites in the area: Expand Site 1 to include two additional parcels at the Port of Muskogee: Parcel 2 (6 acres)—Port Site F located at 2631 Port Place Road and Parcel 3 (28 acres)—Port Site G located at the intersection of North 43rd Street East and Don Cayo Road; Proposed Site 2 (47 acres)—within the 290-acre Port of Muskogee/John T. Griffin Industrial Park (Lot 2) located on Dal-Tile Road near the intersection of State Highway 165 and U.S. Highway 64; and, Proposed Site 3 (23 acres, 2 parcels)—Komar Distribution Center facilities in McAlester located at 400 West Chickasaw (Parcel 1, 8 acres) and located at 10 V. Hubert Smith Drive (Parcel 2, 15 acres). The sites are owned by the Muskogee City-County Port Authority (Sites 1 and 2) and Komar Properties of Oklahoma, Inc. (Site 3). The proposed sites will be used for warehousing and distribution operations. No specific manufacturing authority is being requested at this time. Such requests would be made to the Board on a case-by-case basis.

In accordance with the Board's regulations, a member of the FTZ Staff has been designated examiner to investigate the application and report to the Board.

Public comment is invited from interested parties. Submissions (original and 3 copies) shall be addressed to the Board's Executive Secretary at the address below. The closing period for their receipt is September 18, 2006. Rebuttal comments in response to material submitted during the foregoing period may be submitted during the subsequent 15-day period (to October 2, 2006).

A copy of the application and accompanying exhibits will be available for public inspection at each of the following locations: Muskogee City-County Port Authority Offices, 4901 Harold Scoggins Drive, Muskogee, Oklahoma 74403; and, Office of the Executive Secretary, Foreign-Trade Zones Board, Room 1115, U.S. Department of Commerce, 1401 Constitution Avenue, NW., Washington, DC 20230.

Dated: July 12, 2006.
Andrew McGilvray,
Acting Executive Secretary.

[FR Doc. E6-11454 Filed 7-18-06; 8:45 am]

BILLING CODE 3510-DS-P